DEPARTMENT OF THE INTERIOR

National Advisory Commission

Flight 93 National Memorial Advisory Commission

AGENCY: National Park Service.

ACTION: Notice of January 15, 2005, meeting.

SUMMARY: This notice sets forth the date of the January 15, 2005, meeting of the Flight 93 Advisory Commission.

DATES: The public meeting of the Advisory Commission will be held on Saturday, January 15, 2005, from 1 p.m. to 4 p.m. Additionally, the Commission will attend the Flight 93 Memorial Task Force meeting the same day from 8 a.m. to 11 a.m., which is also open to the public.

Location: The Commission meeting will be held at the Somerset County Courthouse, Courtroom #1; 2nd floor; 111 East Union Street, Somerset, Pennsylvania, 15501. The Flight 93 Memorial Task Force meeting will be held in the same location.

Agenda

The January 15, 2005 Commission meeting will consist of:

(1) Opening of meeting and pledge of allegiance.

(2) Review and approval of minutes from May 14, 2004.

(3) Reports from the Flight 93 Memorial Task Force and the National Park Service. Comments from the public will be received after each report.

(4) Old business.

(5) New business.

(6) Closing remarks.

FOR FURTHER INFORMATION CONTACT: Joanne M. Hanley, Superintendent, Flight 93 National Memorial, 109 West Main Street, Somerset, PA 15501, 814.443.4557.

SUPPLEMENTARY INFORMATION: The meeting will be open to the public. Any member of the public may file with the Commission a written statement concerning agenda items. The statement should be addressed to the Flight 93 Advisory Commission, 109 West Main Street, Somerset, PA 15501.

Dated: November 30, 2004.
Joanne M. Hanley,
Superintendent, Flight 93 National Memorial.

[FR Doc. 04-28289 Filed 12-27-04; 8:45 am]

BILLING CODE 4310-WH-M